DEPARTMENT OF HEALTH AND HUMAN SERVICES

Centers for Disease Control and Prevention

[60Day-24-1352; Docket No. CDC-2024-0049]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a continuing information collection, as required by the Paperwork Reduction Act of 1995. This notice invites comment on a proposed information collection project titled Operational Readiness Review 2.0. The Operational Readiness Review (ORR) is a rigorous, evidence-based assessment used to evaluate Public Health Emergency Preparedness (PHEP) recipient's planning and operational functions.

DATES: CDC must receive written comments on or before August 16, 2024.

ADDRESSES: You may submit comments, identified by Docket No. CDC-2024-0049 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Operational Readiness Review 2.0 (OMB Control No. 0920-1352, Exp. 10/31/2024)—Extension—Office of Readiness and Response (ORR), Centers for Disease Control and Prevention (CDC).

Background and Brief Description

To help evaluate the country's public health emergency preparedness and response capacity, the Centers for Disease Control and Prevention's Division of State and Local Readiness (DSLR) administers the Public Health Emergency Preparedness (PHEP) cooperative agreement. The PHEP program is a critical source of funding for 62 state, local, and territorial jurisdictions, including four major metropolitan areas: Chicago, Los Angeles County, New York City, and Washington, DC, to build and strengthen their ability to respond to and recover from public health emergencies. The Operational Readiness Review (ORR) is a rigorous, evidence-based assessment used to evaluate PHEP recipients' planning and operational functions. The purpose of the ORR 2.0 is to expand measurement and evaluation to all 15 Public Health Emergency Preparedness and Response Capabilities (1—Community Preparedness, 2—Community Recovery, 3—Emergency Operations Coordination, 4—Emergency Public Information and Warning, 5—Fatality Management, 6—Information Sharing, 7—Mass Care, 8—Medical Countermeasure Dispensing and Administration, 9—Medical Materiel Management and Distribution, 10—Medical Surge, 11—Nonpharmaceutical Intervention, 12—Public Health Laboratory Testing, 13—Public Health Surveillance and Epidemiological Investigation, 14—Responder Safety and Health, 15—Volunteer Management), which serve as national standards for public health preparedness planning.

These capabilities serve as national standards for public health preparedness planning.

The ORR 2.0 has three modules: Descriptive, Planning, and Operational, which will allow DSLR to analyze the data for the development of descriptive statistics and to monitor the progress of each recipient towards performance goals. The intended outcome of the ORR 2.0 is to assist CDC to identify strengths and challenges facing preparedness programs across the nation and to identify opportunities for improvement and further technical support.

Information will be collected from respondents using the new ORR 2.0 platform, and a backup paper option may be available for jurisdictions that require it. Information collected from respondents is a requirement of the PHEP Cooperative Agreement for participants to receive funding. CDC is requesting a three-year approval for this information collection. The total annualized burden hour estimate is 3,055 burden hours. There is no cost to respondents other than their time.

Estimated Annualized Burden Hours
Type of respondents | Form name | Number of respondents | Number of responses per respondent | Average burden per response (in hours) | Total burden (in hours)
PHEP Recipients | Critical contact sheet (CCS) | 62 | 1 | 80/60 | 83
PHEP Recipients | Jurisdictional data sheet (JDS) | 62 | 1 | 255/60 | 264
PHEP Recipients | Receive, stage, store (RSS) warehouse (x2, primary and alternate) | 62 | 1 | 4 | 248
PHEP Recipients | Partner form/spreadsheet | 62 | 1 | 8 | 496
PHEP Recipients | Workforce development and training | 62 | 1 | 1.5 | 93
PHEP Recipients | Capability 1—Community Preparedness | 62 | 1 | 1 | 62
PHEP Recipients | Capability 2—Community Recovery | 62 | 1 | 1 | 62
PHEP Recipients | Capability 3—Emergency Operations Coordination | 62 | 1 | 2 | 124
PHEP Recipients | Capability 4—Emergency Public Information and Warning | 62 | 1 | 1.5 | 93
PHEP Recipients | Capability 5—Fatality Management | 62 | 1 | 2.5 | 155
PHEP Recipients | Capability 6—Information Sharing | 62 | 1 | 1 | 62
PHEP Recipients | Capability 7—Mass Care | 62 | 1 | 2 | 124
PHEP Recipients | Capability 8—Medical Countermeasure Dispensing and Administration | 62 | 1 | 3 | 186
PHEP Recipients | Capability 9—Medical Materiel Management and Distribution | 62 | 1 | 195/60 | 202
PHEP Recipients | Capability 10—Medical Surge | 62 | 1 | 2 | 124
PHEP Recipients | Capability 11—Nonpharmaceutical Intervention | 62 | 1 | 1.5 | 93
PHEP Recipients | Capability 12—Public Health Laboratory Testing | 62 | 1 | 1.5 | 93
PHEP Recipients | Capability 13—Public Health Surveillance and Epidemiological Investigation | 62 | 1 | 2.5 | 155
PHEP Recipients | Capability 14—Responder Safety and Health | 62 | 1 | 1.5 | 93
PHEP Recipients | Capability 15—Volunteer Management | 62 | 1 | 75/60 | 78
PHEP Recipients | Multiyear training and exercise plans (MYTEP)—training and exercise planning workshop | 62 | 1 | 1 | 62
PHEP Recipients | MYTEP—training and exercise planning (annual) | 62 | 1 | 2 | 124
PHEP Recipients | Capability 13—Quality improvement process | 62 | 1 | 20/60 | 21
PHEP Recipients | PHEP functional exercise (FE), full-scale exercise (FSE) or incident—annual PHEP exercise | 62 | 1 | 20/60 | 21
PHEP Recipients | PHEP FE, FSE, or incident—annual staff notification and assembly performance measure | 62 | 1 | 1.5 | 93
Directly Funded Localities | Facility setup drill | 4 | 1 | 45/60 | 3
Directly Funded Localities | Site activation drill | 4 | 1 | 1 | 4
PHEP Recipients | EOC activation | 62 | 2 | 30/60 | 62
PHEP Recipients | PHEP FE, FSE, or incident—Five-year joint exercise | 62 | 1 | 20/60 | 21
PHEP Recipients | Five-year Distribution FSE OR Five-year Pan-flu FSE | 62 | 1 | 0.5 | 31
| Five-year Dispensing FSE | * 4 | 1 | 0.5 | 2
PHEP Recipients | Five-year pan flu functional exercise | 62 | 1 | 45/60 | 47
PHEP Recipients | Tabletop exercise (TTX)—Administrative or fiscal preparedness | 62 | 1 | 20/60 | 21
PHEP Recipients | TTX—Continuity of Operations | 62 | 1 | 20/60 | 21
Directly Funded Localities and Freely Associated States | Dispensing Throughput Drill | 12 | 1 | 20/60 | 4
Total |  |  |  |  | 3,055

Jeffrey M. Zirger,
Lead, Information Collection Review Office, Office of Public Health Ethics and Regulations, Office of Science, Centers for Disease Control and Prevention.

[FR Doc. 2024-13229 Filed 6-14-24; 8:45 am]

BILLING CODE 4163-18-P